ENVIRONMENTAL PROTECTION AGENCY

[EPA-HQ-OECA-2012-0680; FRL-9945-27-OEI]

Information Collection Request Submitted to OMB for Review and Approval; Comment Request; Emission Guidelines and Compliance Times for Existing Municipal Solid Waste Landfills (Renewal)

AGENCY: Environmental Protection Agency (EPA).

ACTION: Notice.

SUMMARY: The Environmental Protection Agency has submitted an information collection request (ICR), “Emission Guidelines and Compliance Times for Existing Municipal Solid Waste Landfills (40 CFR part 60, subpart Cc and 40 CFR part 62, subpart GGG) (Renewal)” (EPA ICR No. 1893.07, OMB Control No. 2060-0430), to the Office of Management and Budget (OMB) for review and approval in accordance with the Paperwork Reduction Act (44 U.S.C. 3501 et seq.). This is a proposed extension of the ICR, which is currently approved through April 30, 2016. Public comments were previously requested via the Federal Register (80 FR 32116) on June 5, 2015 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before May 25, 2016.

ADDRESSES: Submit your comments, referencing Docket ID Number EPA-HQ-OECA-2012-0680, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is (202) 566-1744. For additional information about EPA's public docket, visit: http://www.epa.gov/dockets.

Abstract: Owners and operators of affected facilities are required to comply with reporting and record keeping requirements for the general provisions of 40 CFR part 60, subpart A and 40 CFR part 62, subpart A, as well as for the specific requirements at 40 CFR part 60, subpart Cc and 40 CFR part 62, subpart GGG. This includes submitting an initial notification reports, performance tests and periodic reports and results, and maintaining records of the occurrence and duration of any startup, shutdown, or malfunction in the operation of an affected facility, or any period during which the monitoring system is inoperative. These reports are used by EPA to determine compliance with these standards.

Form Numbers: None.

Respondents/affected entities: Existing municipal solid waste landfills.

Respondent's obligation to respond: Mandatory (40 CFR part 60, subpart Cc and 40 CFR part 62, subpart GGG).

Estimated number of respondents: 465 (total).

Frequency of response: Initially, occasionally and annually.

Total estimated burden: 38,900 hours (per year). Burden is defined at 5 CFR 1320.3(b).

Total estimated cost: $3,080,000 (per year), which includes $603,000 in annualized capital/startup and/or operation & maintenance costs.

Changes in the Estimates: There is a net decrease in the total burden associated with privately and publicly owned landfills and State and local agencies. This decrease in burden from the most recently approved ICR is due to an adjustment to the estimated average number of respondents. To account for landfill closures that have occurred since the previous ICR was approved, this ICR applies a three percent per year landfill closure rate to the previous ICR's estimated number of respondents. This results in a decrease in the respondent labor hours, labor costs, O&M costs, and number of responses. There is also a corresponding decrease in the Agency burden and cost.

Courtney Kerwin,
Acting-Director, Collection Strategies Division.

[FR Doc. 2016-09521 Filed 4-22-16; 8:45 am]

BILLING CODE 6560-50-P